ENVIRONMENTAL PROTECTION AGENCY

40 CFR Part 52

[EPA-R05-OAR-2016-0370; EPA-R05-OAR-2016-0371; FRL-9960-89-Region 5]

Air Plan Approval; Indiana; Base Year Emissions Inventory and Emissions Statement Rule Certification for Lake and Porter Counties for the 2008 Ozone Standard

AGENCY: Environmental Protection Agency (EPA).

ACTION: Proposed rule.

SUMMARY: The Environmental Protection Agency (EPA) is proposing to approve two State Implementation Plan (SIP) submissions from the Indiana Department of Environmental Management (IDEM), both dated June 15, 2016. The first addresses emissions inventory requirements for the Indiana portion of the Chicago-Naperville, Illinois-Indiana-Wisconsin (IL-IN-WI) ozone nonattainment area under the 2008 ozone National Ambient Air Quality Standard (NAAQS). The Clean Air Act (CAA) requires emissions inventories for all ozone nonattainment areas. The documented emissions inventory included in Indiana's June 15, 2016, submission meets this CAA requirement. The second submission provides Indiana's certification that its existing Emissions Reporting Rule, previously approved by EPA under a prior ozone standard, satisfies the CAA emissions statement rule requirement for Lake and Porter Counties under the 2008 ozone standard.

DATES: Comments must be received on or before May 8, 2017.

ADDRESSES: Submit your comments, identified by Docket ID No. EPA-R05-OAR-2016-0370 (Emissions Statement) or by Docket ID No. EPA-R05-OAR-2016-0371 (Emissions Inventory) at http://www.regulations.gov or via email to Aburano.Douglas@epa.gov. For comments submitted at Regulations.gov, follow the online instructions for submitting comments. Once submitted, comments cannot be edited or removed from Regulations.gov. For either manner of submission, EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit http://www2.epa.gov/dockets/commenting-epa-dockets.

FOR FURTHER INFORMATION, CONTACT: Kathleen D'Agostino, Air Programs Branch (AR-18J), Environmental Protection Agency, 77 West Jackson Boulevard, Chicago, Illinois 60604, (312) 886-1767, Dagostino.Kathleen@epa.gov.

SUPPLEMENTARY INFORMATION: In the Final Rules section of this Federal Register, EPA is approving IDEM's SIP revisions as a direct final rule without prior proposal because EPA views this as a noncontroversial submittal and anticipates no adverse comments. A detailed rationale for the approval is set forth in the direct final rule. If no adverse comments are received in response to this rule, no further activity is contemplated. If EPA receives adverse comments, the direct final rule will be withdrawn and all public comments received will be addressed in a subsequent final rule based on this proposed rule. EPA will not institute a second comment period. Any parties interested in commenting on this action should do so at this time. Please note that, if EPA receives adverse comment on an amendment, paragraph, or section of this rule and if that provision may be severed from the remainder of the rule, EPA may adopt as final those provisions of the rule that are not the subject of an adverse comment. For additional information see the direct final rule, which is located in the Rules section of this Federal Register.

Dated: March 21, 2017.
Robert A. Kaplan,
Acting Regional Administrator, Region 5.

[FR Doc. 2017-06895 Filed 4-6-17; 8:45 am]

BILLING CODE 6560-50-P